AGENCY FOR INTERNATIONAL DEVELOPMENT

Notice of Special Session, “Building Human Capital: Nutrition Is Fundamental”

Pursuant to the Federal Advisory Committee Act, notice is hereby given of a special session hosted by the Board for International Food and Agricultural Development (BIFAD). This public session will be held from 9:00 a.m. to 11:00 a.m. on Wednesday, October 14, 2015 at the Des Moines Marriot Downtown Hotel, 700 Grand Avenue, Des Moines, Iowa. The title of the session is Building Human Capital: Nutrition Is Fundamental. This session focuses on the economic impact of malnutrition in the developing world. Through this discussion, BIFAD seeks to highlight this important issue and begin a dialogue with university partners, nutrition experts, and the broader stakeholder community.

Dr. Brady Deaton, BIFAD Chair, will moderate the special session, which will begin promptly at 9:00 a.m. with opening remarks. The first speaker, Dr. Rob Bertram, USAID Bureau for Food Security's Chief Scientist, will provide an introduction to USAID's nutrition strategy under Feed the Future. The first hour of the session will consist of short presentations by a panel of nutrition experts from the university community. The panelists include Jessica Fanzo from the Bloomberg School of Public Health at Johns Hopkins University; John Hoddinott from the Charles H. Dyson School of Economics and Management at Cornell University; Grace Marquis from the School of Dietetics and Nutrition at McGill University, Canada; and Ana Lydia Sawaya from the Institute of Advanced Studies at the Federal University of Sao Paolo, Brazil. They will discuss emerging trends in the global pattern of malnutrition, including obesity and micronutrient deficiency, cognitive and physical impairments of children that arise from poor nutrition, and the economic and social impacts of malnutrition. The panel will conclude with examples of successful, evidence-based nutrition interventions.

At 10:30 a.m., Chairman Deaton will open the floor for questions to the panelists, as well as general information sharing and dialogue among all participants. At 11:00 a.m. BIFAD Chair Brady Deaton will make closing remarks and adjourn the BIFAD-sponsored special session.

Those wishing to attend the session or obtain additional information about BIFAD should contact Susan Owens, Executive Director and Designated Federal Officer for BIFAD in the Bureau for Food Security at USAID. Interested persons may write to her in care of the U.S. Agency for International Development, Ronald Reagan Building, Bureau for Food Security, 1300 Pennsylvania Avenue NW., Room 2.09-067, Washington, DC 20523-2110 or telephone her at (202) 712-0218.

Susan Owens,
Executive Director and USAID Designated Federal Officer for BIFAD, Bureau for Food Security, U.S. Agency for International Development.

[FR Doc. 2015-22793 Filed 9-9-15; 8:45 am]

BILLING CODE 6116-02-P